DEPARTMENT OF DEFENSE

Department of the Navy

Notice of Intent To Prepare an Environmental Impact Statement for a Submarine Dry Dock and Waterfront Production Facility at the Pearl Harbor Naval Shipyard and Intermediate Maintenance Facility, Oahu, Hawaii, and To Announce the Public Scoping Meeting

AGENCY: Department of the Navy, Defense (DoD).

ACTION: Notice.

SUMMARY: Pursuant to the National Environmental Policy Act (NEPA) of 1969, as implemented by the Council on Environmental Quality Regulations, the Department of the Navy (Navy) announces its intent to prepare an Environmental Impact Statement (EIS) to evaluate the potential environmental effects associated with construction and operation of a submarine dry dock (DD) replacement and waterfront production facility (WPF) at the Pearl Harbor Naval Shipyard and Intermediate Maintenance Facility (PHNSY & IMF) at Joint Base Pearl Harbor‐Hickam (JBPHH), Oahu, Hawaii. PHNSY & IMF is situated on the eastern shore of Pearl Harbor on the south side of the island of Oahu. The DD and WPF will provide required capability to perform depot-level maintenance on current and future classes of fast-attack submarines and improve operational readiness. An EIS is considered the appropriate document for comprehensively analyzing the proposed action, which is to demolish existing facilities and construct new facilities, utilities, and infrastructure at PHNSY & IMF.

DATES: The Navy is initiating a 32-day public scoping process beginning on September 11, 2020 and extending through October 13, 2020. The purpose of the public scoping process is to identify community interests and to receive comments on the scope of the EIS and the project's potential to affect historic properties pursuant to Section 106 of the National Historic Preservation Act of 1966. This public scoping process starts with the publication of this Notice of Intent. The Navy is providing two web-based platforms for the public to learn about the Proposed Action and provide scoping comments. All comments are due by October 13, 2020.

ADDRESSES: The two web-based platforms include the following:

1. A virtual Open House. The virtual Open House will be available at www.PearlHarborDryDockEISOpenHouse.org from 12:00 a.m. Hawaii Standard Time (HST) on September 11, 2020, to 11:59 p.m. (HST) on October 13, 2020. The virtual Open House will present an overview of the Proposed Action, preliminary alternatives, and the NEPA process, and will allow the public to electronically submit comments on the scope of the EIS and to identify specific environmental concerns or topics for consideration in the document. Additionally, the public will have the opportunity to participate in the Section 106 process through the virtual Open House. The public will be able to electronically submit comments on the project's potential to affect historic properties pursuant to Section 106 of the National Historic Preservation Act of 1966 (NHPA), and the Navy's ongoing development of a Nationwide Programmatic Agreement for the Shipyard Infrastructure Optimization Program. The public is invited to visit https://www.navalshipyards-nhpa.com to find out more about the Section 106 consultation.

2. A virtual Public Scoping Meeting. The virtual Public Scoping Meeting will be held on September 29, 2020, from 4:30 to 6:00 p.m. (HST) as an additional means to learn about the Proposed Action through a live presentation and question and answer session held by Navy representatives. Additionally, resource-specific breakout sessions are planned for 6:00-7:00 p.m. HST. Information concerning the virtual Public Scoping Meeting and resource-specific breakout sessions time and web location is available on the EIS website at: www.PearlHarborDryDockEIS.org. The Navy will also announce the virtual Public Scoping Meeting date, time, and location in the local newspaper. The virtual Public Scoping Meeting provides another opportunity for the public to participate in the NEPA and NHPA Section 106 processes and electronically submit comments.

If the virtual Scoping Meeting cannot be held on September 29, 2020, due to an unforeseen challenge, please check the EIS website at www.PearlHarborDryDockEIS.org for information on the rescheduled meeting.

FOR FURTHER INFORMATION CONTACT: Andréa M. Von Burg Hall, Navy PHNSY DD/WPF EIS Project Manager, by telephone (808-472-1425), email (andrea.vonburg-hall@navy.mil), or by mail at Naval Facilities Engineering Command Pacific, Attn: PHNSY DD/WPF EIS Project Manager, 258 Makalapa Drive, Suite 100, Joint Base Pearl Harbor-Hickam, HI 96860-3134.

SUPPLEMENTAL INFORMATION: Depot maintenance for PHNSY & IMF requires four DDs capable of docking current and future classes of submarines. In addition, to accommodate future submarine maintenance demands at PHNSY & IMF and improve operational readiness, the time spent servicing each submarine at the DD must be reduced. Infrastructure improvements and rearrangement of functions at PHNSY are, therefore, needed to ensure adequate capacity and operational efficiency.

The purpose of the Proposed Action is to provide appropriate DD capacity at PHNSY & IMF to meet depot maintenance requirements and to provide a properly sized and configured WPF to enable efficient submarine maintenance.

The Navy proposes DD replacement at PHNSY & IMF capable of performing depot‐level maintenance on current and future fast-attack submarines. To meet the purpose and need, the Navy's Proposed Action is to construct and operate a graving DD replacement and WPF at PHNSY & IMF, including permanent ancillary facilities such as new power and utilities. A graving or excavated DD is one that is constructed on land near the shore, using concrete. Other construction‐related actions would include dredging, upgrade or replacement of new in-water structures, demolition of existing upland structures, and construction of new upland facilities.

The Navy has identified four preliminary action alternatives to carry forward for analysis in the EIS along with the No Action alternative. These alternatives will be further refined based on input received from the public and resource agencies during scoping.

Alternative 1 (No Action Alternative) would be no change from the status quo. A submarine DD replacement and WPF would not be built, and PHNSY & IMF would continue to service submarines using its existing infrastructure. Following the phasing out of the Los Angeles Class submarine in 2022, DD 3 would no longer be capable of servicing any active submarines due to size limitations.

Alternative 2 would consist of a covered graving DD replacement and bridge crane. A new WPF would be located east of the DD, servicing both the replacement DD and DD #2.

Alternative 3 would consist of a covered graving DD replacement and bridge crane. A new WPF would be located west of the DD and would service only the replacement DD.

Alternative 4 would consist of an uncovered graving DD replacement, operated using a portal or gantry crane. A new WPF would be located east of the DD, servicing both the DD replacement and DD #2.

Alternative 5 would consist of an uncovered graving DD replacement, operated using a portal or gantry crane. A new WPF would be located west of the DD and would service only the DD replacement.

Environmental issues and resource areas to be examined in the EIS include, but are not limited to the following: Cultural Resources, Visual Resources, Public Health and Safety, Land Use, Socioeconomics, Environmental Justice, Soils, Water Quality, Topography and Geology, Air Quality, Terrestrial Biology, Marine Biology, Traffic, Marine Navigation, Noise, Utilities, and Hazardous Materials. The EIS will also analyze measures that would avoid, minimize, or mitigate environmental effects. Additionally, the Navy will conduct all coordination and consultation activities required by the National Historic Preservation Act, the Endangered Species Act, the Magnuson-Stevens Fishery Conservation and Management Act, the Clean Water Act, the Coastal Zone Management Act, and other laws and regulations determined to be applicable to the project.

The Navy encourages federal, state, and local agencies, and interested persons to provide comments concerning the alternatives proposed for study and environmental issues for analysis in the EIS, as well as to identify specific environmental resources that the Navy should consider when developing the Draft EIS. The Navy will prepare the Draft EIS, including analysis of potential effects to those resources, which the Navy and the commenting public has identified. All comments received during the public scoping period will receive consideration during EIS preparation.

Written comments on the scope of the EIS or the project's potential to affect historic properties pursuant to Section 106 of the National Historic Preservation Act of 1966 can be mailed or submitted electronically via the virtual Open House. To receive consideration, comments submitted by mail must be postmarked no later than October 13, 2020. Comments may be mailed to the following address: Naval Facilities Engineering Command Pacific, Attn: PHNSY DD/WPF EIS Project Manager, 258 Makalapa Drive, Suite 100, Joint Base Pearl Harbor-Hickam, HI 96860-3134.

Comments may also be submitted electronically through the EIS website at www.PearlHarborDryDockEIS.org or the virtual Open House website, online at www.PearlHarborDryDockEISOpenHouse.org. Comments must be posted by 11:59pm HST on October 13, 2020.

Dated: September 3, 2020.
D.J. Antenucci,
Commander, Judge Advocate General's Corps, U.S. Navy, Federal Register Liaison Officer.

[FR Doc. 2020-19961 Filed 9-14-20; 8:45 am]

BILLING CODE 3810-FF-P